DEPARTMENT OF THE INTERIOR

Bureau of Land Management

[AK-930-1310-AG]

Notice of Extension of the Scoping Period for Amending the Northeast National Petroleum Reserve-Alaska Integrated Activity Plan and Environmental Impact Statement, Request for Information, and Call for Nominations and Comments

AGENCY: Bureau of Land Management, Interior.

ACTION: Notice of extension of scoping period.

SUMMARY: The Bureau of Land Management (BLM) announces an extension of the scoping period for the Amendment of the Northeast (NE) National Petroleum Reserve-Alaska (NPR-A) Integrated Activity Plan (IAP) and Environmental Impact Statement (EIS).

DATES: Written comments on issues relating to the future land use, planning, and management of the northeast portion of NPR-A must be submitted or postmarked no later than October 31, 2003.

ADDRESSES: Comments on the document should be addressed to: NE NPR-A Amendment Planning Team, Bureau of Land Management, Alaska State Office (930), 222 West 7th Avenue, Anchorage, Alaska 99513-7599.

FOR FURTHER INFORMATION, CONTACT: Curt Wilson, (907) 271-5546; c1wilson@ak.blm.gov or by mail at 222 W. 7th Avenue, #13, Anchorage, AK 99513-7599 or Craig McCaa (907) 271-2231; craig_mccaa@ak.blm.gov.

SUPPLEMENTARY INFORMATION: The BLM published a Notice of Intent for the Amendment to the NE NPR-AIAP on June 26, 2003 that contained a closing date of September 30 for scoping comments. Since that time the BLM has received requests from the North Slope communities nearest to the planning area that the comment period be extended. This extension responds to those requests. Scoping meetings will be held in Nuiqsut, Atqasuk, Anaktuvuk Pass, Barrow, Anchorage and Fairbanks. Times and locations of the meetings will be advertised locally.

Dated: August 12, 2003.
Peter Ditton,
Acting State Director.

[FR Doc. 03-23446 Filed 9-12-03; 8:45 am]

BILLING CODE 4310-AG-P